DEPARTMENT OF HEALTH AND HUMAN SERVICES

Centers for Disease Control and Prevention

[60Day-21-21FJ; Docket No. CDC-2021-0054]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Program Evaluation of CDC's Core State Injury Prevention Program. The proposed project is intended to assess both recipient-level and program-level outcomes associated with the NCIPC's Core SIPP funded state injury prevention program.

DATES: CDC must receive written comments on or before August 9, 2021.

ADDRESSES: You may submit comments, identified by Docket No. CDC-2021-0054 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Program Evaluation of CDC's Core State Injury Prevention Program—New—National Center for Injury Prevention and Control (NCIPC), Centers for Disease Control and Prevention (CDC)

Background and Brief Description

CDC requests OMB approval for three years for this new data collection. Approval is requested to collect information from awardees funded under the Core State Injury Prevention Program cooperative agreement, hereafter known as Core SIPP. This program is a new initiative. As part of the annual program evaluation data collection, recipients will submit data on enhancements in program implementation capacity, leveraged resources/funds through economic indicators, challenges and successes, programmatic improvements, and impact through interviews. Finally, awardees will annually submit injury and violence prevention surveillance data using an Excel-based Injury Indicator Spreadsheets and Special Emphasis Reports.

Information to be collected will provide crucial data for program evaluation and provide CDC with the ability to respond in a timely manner to requests for information about the program from the Department of Health and Human Services (DHHS), the White House, and Congress. It will also provide increased capacity, help understand how the cooperative agreement increases potential sustainability though improved capacity, provide data-driven technical assistance, and disseminate the most current surveillance data on unintentional and intentional injuries.

Authority for CDC's National Center for Injury Prevention and Control (NCIPC) to collect these data is granted by Section 301 of the Public Health Service Act (42 U.S.C. 241). This Act gives federal health agencies, such as CDC, broad authority to collect data and participate in other public health activities, including this type of program implementation evaluation. The Core SIPP evaluation will collect several types of information from recipients over the course of the funding cycle. This information will be used to:

(1) Evaluate and track outcomes at the recipient- and program-levels as they relate to injury prevention-focused infrastructure development, surveillance system development and use, and partnerships, to prevent Adverse Childhood Experiences (ACEs), Traumatic Brain Injury (TBI), and transportation-related injuries. Recipient- and program-level identification of disproportionately affected populations and subsequent public health actions taken to address injury-related health disparities will also be assessed.

(2) Identify technical assistance needs of individual recipients and this recipient cohort, so that the CDC team can appropriately deploy resources to support recipients.

(3) Identify practice-based evidence for injury prevention public health actions to advance the field through future partnerships, program design, and publications.

(4) Inform continuous quality improvement activities over the course of the funding period, to include quarterly and annual strategic planning for current and later iterations of this program under future funding.

CDC requests OMB approval for an estimated 655 annual burden hours. There are no costs to respondents other than their time to participate.

Estimated Annualized Burden Hours
Type of respondents | Form name | Number of respondents | Number of responses per respondent | Average burden per response (in hours) | Total burden (in hours)
Core SIPP Program Awardees | Implementation Capacity Development Rubric | 23 | 1 | 2 | 46
| Economic Indicators | 23 | 1 | 1 | 23
| Recipient-level Group Interviews | 23 | 1 | 1.5 | 35
| Injury Indicators Spreadsheet | 23 | 1 | 5 | 107
| Emergency Department Injury Indicators Spreadsheet | 23 | 1 | 5 | 107
| Hospital Discharge Injury Indicators Spreadsheet | 23 | 1 | 5 | 107
| Special Emphasis Reports | 23 | 1 | 10 | 230
Total |  |  |  |  | 655

Jeffrey M. Zirger,
Lead, Information Collection Review Office, Office of Scientific Integrity, Office of Science, Centers for Disease Control and Prevention.

[FR Doc. 2021-12211 Filed 6-9-21; 8:45 am]

BILLING CODE 4163-18-P